DEPARTMENT OF TRANSPORTATION

Federal Aviation Administration

14 CFR Part 71

[Docket No. FAA-2019-0241; Airspace Docket No. 18-AEA-18]

RIN 2120-AA66

Amendment VOR Federal Airways V-260, and V-290; Eastern United States

AGENCY: Federal Aviation Administration (FAA) DOT.

ACTION: Proposed rule; withdrawal.

SUMMARY: The FAA is withdrawing the NPRM published in the Federal Register on April 8, 2019, proposing to modify Very High Frequency (VHF) Omnidirectional Range (VOR) Federal airways V-260, and V-290 due to the planned decommissioning of the Rainelle, WV (RNL), VOR.

DATES: Effective as of 0901 UTC, June 30, 2023, the proposed rule published April 8, 2019 (84 FR 13846), is withdrawn.

FOR FURTHER INFORMATION CONTACT: Paul Gallant, Rules and Regulations Group, Office of Policy, Federal Aviation Administration, 800 Independence Avenue SW, Washington, DC 20591; telephone: (202) 267-8783.

SUPPLEMENTARY INFORMATION:

Reason for Withdrawal

The FAA published a notice of proposed rulemaking in the Federal Register for Docket No. FAA-2019-0241 (84 FR 13846; April 8, 2019). The NPRM proposed to amend VOR Federal airways V-260, and V-290 due to the planned decommissioning of the Rainelle, WV (RNL), VOR which provides navigation guidance for portions of the affected airways. Interested parties were invited to participate in this rulemaking effort by submitting written comments on the proposal. No comments were received. Subsequent to the NPRM, the Rainelle, WV (RNL), VOR decommissioning was delayed, and other airway docket actions rendered this proposal unnecessary.

Conclusion

The FAA determined that the NPRM published on April 8, 2019, is unnecessary. Therefore, the FAA withdraws that NPRM.

Issued in Washington, DC, on June 26, 2023.
Brian Konie,
Acting Manager, Airspace Rules and Regulations.

[FR Doc. 2023-13921 Filed 6-29-23; 8:45 am]

BILLING CODE 4910-13-P